DEPARTMENT OF COMMERCE

National Oceanic and Atmospheric Administration

RIN: 0648-XP09

New England Fishery Management Council; Public Hearings

AGENCY: National Marine Fisheries Service (NMFS), National Oceanic and Atmospheric Administration (NOAA), Commerce.

ACTION: Notice of public hearings.

SUMMARY: The New England Fishery Management Council (Council) will hold five public hearings to solicit Public comments on Draft Amendment 16 to the Northeast Multispecies Fishery Management Plan (FMP).

DATES: Written public comments must be received on or before 5 p.m. EST, June 8, 2009. The meetings will be held in May and June, 2009. For specific dates and times, see SUPPLEMENTARY INFORMATION.

ADDRESSES: The Public document can be obtained by contacting the New England Fishery Management Council, 50 Water Street, Mill 2, Newburyport, MA 01950.

Meeting addresses: The meetings will be held in Wakefield, MA, Portsmouth, NH, Portland, ME, New London, CT, and So. Kingstown, RI. For specific locations, see SUPPLEMENTARY INFORMATION.

Public comments: Mail to Patricia A. Kurkul, Regional Administrator, NMFS, Northeast Regional Office,55 Great Republic Drive, Gloucester, MA 01930. Mark the outside of the envelope “DEIS for Amendment 16 to the Northeast Multispecies FMP”. Comments may also be sent via fax to (978) 281-9207 or submitted via e-mail to multsamendment16@noaa.gov with “DIES for Amendment 16 to the Northeast Multispecies FMP” in the subject line.

FOR FURTHER INFORMATION CONTACT: Paul J. Howard, Executive Director, New England Fishery Management Council; telephone: (978) 465-0492.

SUPPLEMENTARY INFORMATION: The agendas for the following six hearings are as follows: New England Fishery Management Council staff will brief the public on the herring amendments and the contents of the draft environmental impact statement (DEIS) prior to opening the hearing for public comments and the schedules are as follows:

Public Hearings: Locations, Schedules, and Agendas

1. Tuesday, May 26, 2009, from 5:30-9 p.m.; Sheraton Colonial, One Audubon Road, Wakefield, MA 01880; telephone: (781) 245-9300.

2. Wednesday, May 27, 2009, from 6-9 p.m.; Sheraton Harborside, 250 Market Street, Portsmouth, NH 03801; telephone: (603) 431-2300.

3. Thursday, May 28, 2009, from 5-8 p.m.; Holiday Inn By the Bay, 88 Spring Street, Portland, ME 04101; telephone: (207) 775-2311.

4. Monday, June 1, 2009, from 1-3:30 p.m.; Radisson, 35 Governor Winthrop Blvd., New London, CT 06320; telephone: (860) 443-7000.

5. Monday, June 1, 2009 from 6-9 p.m.; Holiday Inn, 3009 Tower Hill Road, So. Kingstown, RI 02674; telephone: (401) 789-1051.

Special Accommodations

These meetings are physically accessible to people with disabilities. Requests for sign language interpretation or other auxiliary aids should be directed to Paul J. Howard (see ADDRESSES), at least 5 working days prior to the meeting date.

Authority: 16 U.S.C. 1801 et seq.

Dated: May 5, 2009.
William D. Chappell,
Acting Director, Office of Sustainable Fisheries, National Marine Fisheries Service.

[FR Doc. E9-10837 Filed 5-8-09; 8:45 am]

BILLING CODE 3510-22-S